ENVIRONMENTAL PROTECTION AGENCY

[EPA-HQ-OAR-2011-0621; FRL-9659-6]

Access by EPA Contractors to Confidential Business Information Related to the Greenhouse Gas Reporting Program

AGENCY: Environmental Protection Agency (EPA).

ACTION: Notice.

SUMMARY: EPA's Office of Atmospheric Programs plans to authorize the contractors named in this notice to access information submitted to EPA under the Greenhouse Gas Reporting Program that may be designated or claimed as confidential business information. Contractor access to this information will begin no sooner than April 19, 2012.

DATES: EPA will accept comments on this Notice through April 18, 2012.

ADDRESSES: You may submit your comments, identified by Docket ID No. EPA-HQ-OAR-2011-0621 by any of the following methods:

• Federal eRulemaking Portal: http://www.regulations.gov. Follow the online instructions for submitting comments.

• Email: MRR_Corrections@epa.gov. Include Docket ID No. EPA-HQ-OAR-2011-0621 in the subject line of the message.

• Fax: (202) 566-9744.

• Mail: Environmental Protection Agency, EPA Docket Center (EPA/DC), Mailcode 2822T, Attention Docket ID No. EPA-HQ-OAR-2011-0621, 1200 Pennsylvania Avenue NW., Washington, DC 20004.

• Hand/Courier Delivery: EPA Docket Center, Public Reading Room, EPA West Building, Room 3334, 1301 Constitution Avenue NW., Washington, DC 20004. Such deliveries are only accepted during the Docket's normal hours of operation, and special arrangements should be made for deliveries of boxed information.

Instructions: Direct your comments to Docket ID No. EPA-HQ-OAR-2011-0621. EPA's policy is that all comments received will be included in the public docket without change and may be made available online at http://www.regulations.gov, including any personal information provided, unless the comment includes information claimed to be confidential business information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

FOR FURTHER INFORMATION CONTACT: Carole Cook, Climate Change Division, Office of Atmospheric Programs (MC-6207J), Environmental Protection Agency, 1200 Pennsylvania Ave. NW., Washington, DC 20460; telephone number: (202) 343-9263; fax number: (202) 343-2342; email address: GHGReportingRule@epa.gov.

SUPPLEMENTARY INFORMATION:

I. Background and Comment Information

A. Does this notice apply to me?

This notice is directed to the general public. However, this action may be of particular interest to parties subject to the requirements of 40 CFR part 98. If you have further questions regarding the applicability of this action to a particular party, please contact the person listed in FOR FURTHER INFORMATION CONTACT.

B. How can I get copies of this document and other related information?

1. Electronically

EPA has included a public docket for this Federal Register notice under Docket EPA-HQ-OAR-2011-0621.

All documents in the docket are identified in the docket index available at http://www.regulations.gov. Although listed in the index, some information is not publicly available, such as confidential business information (CBI) or other information for which disclosure is restricted by statute. Certain materials, such as copyrighted material, will only be available in hard copy at the EPA Docket Center.

2. EPA Docket Center

Materials listed under Docket EPA-HQ-OAR-2011-0621 will be available for public viewing at the EPA Docket Center (EPA/DC), EPA West, Room 3334, 1301 Constitution Avenue NW., Washington, DC 20460. The EPA Docket Center Public Reading Room is open from 8:30 a.m. to 4:30 p.m., Monday through Friday, excluding legal holidays. The telephone number for the Reading Room is (202) 566-1744, and the telephone number for the Air Docket is (202) 566-1742.

B. What should I consider as I prepare my comments to EPA?

1. Submitting CBI in Response to This Notice

Clearly mark the part or all of the comments that you claim to be CBI submitted in response to this notice. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information marked as CBI will not be disclosed except in accordance with procedures set forth in 40 CFR Part 2.

If you have any questions about CBI or the procedures for claiming CBI, please consult the person identified in the FOR FURTHER INFORMATION CONTACT section.

2. Tips for Preparing Your Comments

When submitting comments, remember to:

Identify this Notice by docket number and other identifying information (e.g., subject heading, Federal Register date and page number).

Follow directions. EPA may ask you to respond to specific questions or organize comments by referencing a CFR part or section number.

Describe any assumptions and provide any technical information and/or data that you used.

Provide specific examples to illustrate your concerns and suggest alternatives. Explain your views as clearly as possible, avoiding the use of profanity or personal threats.

Make sure to submit your comments by the deadline identified in the preceding section titled DATES. To ensure proper receipt by EPA, be sure to identify the docket ID number assigned to this action in the subject line on the first page of your response. You may also provide the name, date, and Federal Register citation.

II. Description of Programs and Potential Disclosure of Information Claimed as Confidential Business Information to Contractors

EPA's Office of Atmospheric Programs (OAP) has responsibility for protecting public health and the environment by addressing climate change, protecting the ozone layer, and improving regional air quality. In response to the FY2008 Consolidated Appropriations Act (H.R. 2764; Pub. L. 110-161), EPA created the Greenhouse Gas Reporting Program (GHGRP), 40 CFR part 98 (Part 98), which requires reporting of greenhouse gas (GHG) data and other relevant information from large sources and suppliers in the United States. The purpose of Part 98 is to collect accurate and timely GHG data to inform future policy decisions. Some of the information submitted is designated or claimed to be CBI. Such information is handled in accordance with EPA's regulations in 40 CFR part 2, subpart B and in accordance with EPA procedures that are consistent with those regulations.

EPA has, at times, determined that it is necessary to disclose to EPA contractors certain information that has been designated or claimed as CBI. When this occurs, the corresponding contract must address the appropriate use and handling of the information by the contractor. In every instance, the contractor must require its personnel who need access to information designated or claimed as CBI to sign written agreements before they are granted access to the data. In addition to contractors' requirement to sign written agreements prior to being granted access to CBI, EPA is also required to give notice in accordance with 40 CFR 2.301(h)(2)(iii). EPA has determined that the contractors, subcontractors, and grantees (collectively referred to as “contractors”) listed below may require access to data submitted to EPA under the GHGRP that is designated or claimed as CBI. EPA is providing notice and an opportunity to comment and is issuing this Federal Register notice to inform all reporters of information under Part 98 that EPA may grant access to material that may be designated or claimed as CBI to the contractors identified below, as needed. EPA may also grant access to materials that may be designated or claimed as CBI to any of the listed subcontractors, as needed, but does not necessarily anticipate granting access to all of the listed subcontractors.

Under Contract Number EP-W-11-052, Science Applications International Corporation (SAIC), 1710 SAIC Drive, McLean, VA 22102, and its subcontractor, Federal Working Group, 4620 Lee Highway, Suite 210, Arlington, VA 22207, provide technical support that requires access to information designated or claimed as CBI related to the GHGRP. Access to data, including information designated or claimed as CBI, will commence no sooner than April 19, 2012 and will continue until the termination of this contract. If the contract is extended, this access will continue for the remainder of the contract and any further extensions without further notice.

Under Contract Number EP-W-11-053, Eastern Research Group (ERG), 110 Hartwell Avenue, Lexington, MA 02421, provides, and any of the subcontractors listed below may provide, technical support that requires access to information designated or claimed as CBI related to the GHGRP. Access to data, including information designated or claimed as CBI, will commence no sooner than April 19, 2012 and will continue until the termination of this contract. If the contract is extended, this access will continue for the remainder of the contract and any further extensions without further notice. These provisions also apply to the following ERG subcontractors: AEA Technology PLC, 6, New Street Square, London, EC4A 3BF, England; Clearstone Engineering, Ltd., #700, 900—6th Avenue SW., Calgary, Alberta, Canada, T2P 3K2; Earth Resources Technology, Inc., 6100 Frost Place, Suite A, Laurel, MD 20707; First Environment, Inc., 91 Fulton Street, Boonton, NJ 07005; HCD International, 4390 Parliament Place, Suite A, Lanham, MD 20706; LRQA Americas Sustainability, 1216 State Street, 5th Floor, Santa Barbara, CA, 93101-2601; National Opinion Research Center, 1155 East 60th Street, 3rd Floor, Chicago, IL 60637; Project Performance Corporation, 1760 Old Meadow Road, McLean, Virginia 22102; Ruby Canyon Engineering, Inc., 743 Horizon Court, Suite 385, Grand Junction, CO 81506; Serafina Technical Consulting, LLC, P.O. Box 77, 41 Rodeo Drive, Serafina, NM 87569; Sierra Research, Inc., 1801 J Street, Sacramento, CA 95811; Stratus Consulting, Inc., 1881 Ninth Street, Suite 201, Boulder, CO 80302; Windsor Solutions, Inc., 4386 SW Macadam Avenue, Suite 101, Portland, OR 97239; Dr. Rick Chalaturnyk, 18 Oakmont Drive, St. Albert, AB, Canada T8N 6K6; Dr. Lincoln Pratson, 203 Old Chem, Box 90227, Durham, NC 27708; Dr. Sebastien Raoux, 361 West 36th Street, New York, NY 10018; and Dr. Christina Schwerdtfeger, 42 Sawgrass, Coto De Caza, CA 92679.

Under Contract Number EP-W-07-067 Task Order 85, Eastern Research Group (ERG), 110 Hartwell Avenue, Lexington, MA 02421, provides technical support that requires access to information designated or claimed as CBI related to the GHGRP, including, but not limited to, 40 CFR part 98. Access to data, including information designated or claimed as CBI, will commence no sooner than April 19, 2012 and will continue until the termination of this contract. If the contract is extended, this access will continue for the remainder of the contract and any further extensions without further notice.

Under Contract Number EP-W-11-054, RTI International, PO Box 12194, 3040 Cornwallis Road, Research Triangle Park, NC 27709, provides, and any of the subcontractors listed below may provide, technical support that requires access to information designated or claimed as CBI related to the GHGRP. Access to data, including information designated or claimed as CBI, will commence no sooner than April 19, 2012 and will continue until the termination of this contract. If the contract is extended, this access will continue for the remainder of the contract and any further extensions without further notice. These provisions also apply to the following RTI International subcontractors: Accenture Federal Services, LLC, 800 North Glebe Road, Suite 300, Arlington, VA 22203; Adasphere Inc., PO Box 81, 11 East Beverley Street, Suite 1, Staunton, VA 24402-0081; Carbon Disclosure Project, 6 West 48th Street, 10th Floor, New York, NY, 10036; EnDyna, Inc., 7926 Jones Branch Drive, Suite 620, McLean, VA 22102; LMI Government Consulting, 2000 Corporate Ridge #160, McLean, VA 22102; Quasars, Inc., 955 L'Enfant Plaza North SW., Suite 1201, Washington, DC 20024; and VEETech PC, 113 Centrewest Court, Cary, NC 27513.

Under Contract Number EP-W-11-055, SRA International, Inc., 4300 Fair Lakes Court, Fairfax, Virginia 22033, and its subcontractor, Rabbit Software, LLC, 1657 Old Brook Road, Charlottesville, VA 22901, provide, and any of the additional subcontractors listed below may provide, technical support that requires access to information designated or claimed as CBI related to the GHGRP. Access to data, including information designated or claimed as CBI, will commence no sooner than April 19, 2012 and will continue until the termination of this contract. If the contract is extended, this access will continue for the remainder of the contract and any further extensions without further notice. These provisions also apply to the following SRA International subcontractors: Abt Associates, 55 Wheeler Street, Cambridge, MA 02138-1168; AMEC, 4021 Stirrup Creek Drive, Suite 100, Durham, NC 27703; AXIS Management Group, LLC, 17311 Quail Creek Circle, Hamilton, VA 20158; Booz Allen Hamilton, Hamilton Building, 8283 Greensboro Drive, McLean, VA 22102; Center for Climate Strategies, 1800 K Street NW., Suite 714, Washington, DC 20006; E C/R Inc., 501 Eastowne Drive, Suite 250, Chapel Hill, NC 27514; Emission Monitoring, Inc., 8901 Glenwood Avenue, Raleigh, NC 27617; Noblis, 3150 Fairview Park Drive, Falls Church, VA 22042; Powersolv, Inc., 1801 Robert Fulton Drive, Reston, VA 20191; V3 Technical Services, 2210 Award Winning Way, Suite 202, Knoxville, TN 37932; Melanie LaCount, 9511 Kingsley Avenue, Bethesda, MD 20814; and Quarles Consulting LLC, 1280 Inglecress Drive, Charlottesville, VA 22901.

Under Contract Number EP-W-07-068 Task Order 108, ICF International, 9300 Lee Highway, Fairfax, VA 22031, provides technical support that requires access to information designated or claimed as CBI related to the GHGRP, including, but not limited to, 40 CFR part 98, subpart W. Access to data, including information designated or claimed as CBI, will commence no sooner than April 19, 2012 and will continue until the termination of this contract. If the contract is extended, this access will continue for the remainder of the contract and any further extensions without further notice.

Under Contract Number EP-W-07-068 Task Order 91, the subcontractors, Transcarbon International, 1 Penn Plaza Suite 6110, New York, NY 10119, and Dr. C. Shepherd Burton, 2047 Huckleberry Rd., San Rafael, CA 94903, provide technical support that requires access to information designated or claimed as CBI related to the GHGRP, including, but not limited to, 40 CFR part 98 subpart I. Access to data, including information designated or claimed as CBI, will commence no sooner than April 19, 2012 and will continue until the termination of this contract. If the contract is extended, this access will continue for the remainder of the contract and any further extensions without further notice.

Under Contract Number GS-10F-0036K, the subcontractor Transcarbon International, 1 Penn Plaza Suite 6110, New York, NY 10119, provides technical support that requires access to information designated or claimed as CBI related to the GHGRP, including, but not limited to, 40 CFR part 98 subpart I. Access to data, including information designated or claimed as CBI, will commence no sooner than April 19, 2012 and will continue until the termination of this contract. If the contract is extended, this access will continue for the remainder of the contract and any further extensions without further notice.

Under Contract Number GS-10F-0124J Delivery Order EP11H000308, ICF International, 9300 Lee Highway, Fairfax, VA 22031, provides technical support that requires access to information designated or claimed as CBI related to the GHGRP, including, but not limited to, 40 CFR part 98, subparts L, O, OO and QQ. Access to data, including information designated or claimed as CBI, will commence no sooner than April 19, 2012 and will continue until the termination of this contract. If the contract is extended, this access will continue for the remainder of the contract and any further extensions without further notice.

Parties who wish further information about this Federal Register notice or about OAP's disclosure of information designated or claimed as CBI to contactors may contact the person listed under FOR FURTHER INFORMATION CONTACT.

Dated: April 5, 2012.
Sarah Dunham,
Director, Office of Atmospheric Programs.

[FR Doc. 2012-8923 Filed 4-12-12; 8:45 am]

BILLING CODE 6560-50-P